FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 7, 2022.

A. Federal Reserve Bank of Minneapolis (Chris P. Wangen, Assistant Vice President), 90 Hennepin Avenue, Minneapolis, Minnesota 55480-0291. Comments can also be sent electronically to MA@mpls.frb.org:

1. Greg LeGare and Elaine LeGare, both of Osseo, Wisconsin; Bradley LeGare and Sharon LeGare, both of St. Charles, Illinois; Jeffrey P. LeGare, Lucas, Texas; Jennifer LeGare, Eau Claire, Wisconsin; and Pamela LeGare-Van Hout, Appleton, Wisconsin; to become the LeGare Group, a group acting in concert, to retain voting shares of Platinum Bancorp, Inc., and thereby indirectly retain voting shares of Platinum Bank, both of Oakdale, Minnesota.

2. Daniel Otten, Hayward, Minnesota; to acquire voting shares of Minnesota Community Bancshares, Inc. (MCBI), Albert Lea, Minnesota, and thereby indirectly acquire voting shares of Arcadian Bank, Hartland, Minnesota.

In addition, the Daniel M. Otten Revocable Trust and the Kim M. Otten Revocable Trust, Daniel Otten and Kim Otten, as co-trustees of both trusts, all of Hayward, Minnesota; and the Magdalene E. Otten Revocable Trust, Magdalene Otten, as co-trustee, both of Wisner, Nebraska, and Daniel Otten, as co-trustee; to become members of the Otten Family Control Group, a group acting in concert, to acquire voting shares of MCBI, and thereby indirectly acquire voting shares of Arcadian Bank.

B. Federal Reserve Bank of Kansas City (Jeffrey Imgarten, Assistant Vice President) 1 Memorial Drive, Kansas City, Missouri 64198-0001:

1. The M.D. Michaelis GST Exempt Trust, the M.D. Michaelis Trust B, the Paula Sue Michaelis GST Exempt Trust, and the Paula Sue Michaelis Trust B, all of Wichita, Kansas; to become members of the Michaelis Family Group, a group acting in concert, to retain voting shares of Emprise Financial Corporation (the company), and thereby indirectly retain voting shares of Emprise Bank, both of Wichita, Kansas. The co-trustees of each of the aforementioned trusts have been previously approved by the Federal Reserve to serve as trustees of other trusts.

In addition, Aaron K. Veatch, as co-trustee of the Michael D. Michaelis Trust and the Paula Sue Michaelis Trust, all of Wichita, Kansas; to become a member of the Michaelis Family Group and to acquire shares of the company.

Board of Governors of the Federal Reserve System, February 15, 2022.
Michele Taylor Fennell,
Deputy Associate Secretary of the Board.

[FR Doc. 2022-03603 Filed 2-17-22; 8:45 am]

BILLING CODE P